DEPARTMENT OF HEALTH AND HUMAN SERVICES

Centers for Disease Control and Prevention

[30Day-17-17FB]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Understanding Relationship Dynamics and Conflict Survey—New—National Center for Injury Prevention and Control (NCIPC), Centers for Disease Control and Prevention (CDC).

Background and Brief Description

Intimate partner violence (IPV) is a substantial public health problem in the United States. Over a third of women and over a quarter of men have experienced rape, physical violence, and/or stalking by an intimate partner (Black, et al., 2011). Recognition of the importance and prevalence of this issue has fueled research to examine the causes, correlates, and outcomes of IPV over the past several decades.

The proposed data collection will be used to identify classes of IPV perpetrators based on shared characteristics such as their personal attributes, risk factors, relationship characteristics, and characteristics of the violence they commit. The study will collect information to ascertain which factors or groups of factors may influence violence perpetration that occurs within adult intimate partner relationships.

Data will be collected through an online screener of up to 8,600 respondents and survey of 2,000 Mechanical Turk (MT) workers and an in-person survey of 210 incarcerated individuals. A purposive sample of participants will be chosen from each group. Gay and lesbian individuals will be oversampled in the MT group. The incarcerated group will be equally stratified if individuals are intimate partner violence (IPV) offenders or not. Data analysis will include a combination of Factor Analysis and Latent Profile Analysis.

OMB approval is requested for two years for this new collection. Findings from this data collection will be used to understand and identify classes of intimate partner violence (IPV) perpetrators based on shared characteristics such as their personal attributes, risk factors, relationship characteristics, and characteristics of the violence they commit.

The estimated annual burden hours are 1,322. There are no costs to respondents.

Estimated Annualized Burden Hours
Type of respondents | Form name | Number of respondents | Number of responses per respondent | Average burden per response (in hours)
Mechanical Turk Survey Respondents | Screener Survey | 4,300 | 1 | 5/60
Mechanical Turk Survey Respondents | Understanding Relationship Dynamics and Conflict Survey | 1,000 | 1 | 50/60
Incarcerated Survey Respondents | Understanding Relationship Dynamics and Conflict Survey | 105 | 1 | 1.25

Leroy A. Richardson,
Chief, Information Collection Review Office, Office of Scientific Integrity, Office of the Associate Director for Science, Office of the Director, Centers for Disease Control and Prevention.

[FR Doc. 2017-07960 Filed 4-19-17; 8:45 am]

BILLING CODE 4163-18-P